DEPARTMENT OF ENERGY

Federal Energy Regulatory Commission

[Docket No. IS06-259-000]

Platte Pipe Line Company; Notice of Technical Conference

June 15, 2006.

Take notice that the Commission will convene a technical conference on Friday, July 14, 2006, at 9 a.m. (EDT), in a room to be designated at the offices of the Federal Energy Regulatory Commission, 888 First Street, NE., Washington, DC 20426.

The technical conference will address all aspects of Platte's Supplement No. 7 to its FERC Tariff No. 1456 proposing to establish a new prorationing policy for crude oil volumes moving east of Guernsey, Wyoming, as discussed in the Commission's Order issued on May 19, 2006.¹ Platte's current prorationing methodology allocates capacity monthly on the basis of shippers' nominations as a percentage of available capacity. The provisions of Supplement No. 7 would allocate capacity among Historic Shippers and New Shippers, which are defined as those moving injection volumes in four or less months of the six months used in the historical calculation. Platte proposes to base the revised calculation on a past six-month period and also proposes to allocate New Shippers 10 percent of available capacity, with no individual New Shipper allocated more than three percent of available capacity.

¹ Platte Pipe Line Company, 115 FERC ¶ 61,215 (2006).

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Jenifer Lucas at (202) 502-8362 or e-mail jenifer.lucas@ferc.gov.

Magalie R. Salas,
Secretary.

[FR Doc. E6-9805 Filed 6-21-06; 8:45 am]

BILLING CODE 6717-01-P